DEPARTMENT OF COMMERCE

Foreign-Trade Zones Board

[Docket 11-2002]

Foreign-Trade Zone 61—San Juan, Puerto Rico; Request for Extension; Baxter Healthcare Corporation of Puerto Rico, (Pharmaceuticals)

An application has been submitted to the Foreign-Trade Zones Board (the Board) by Promoexport Puerto Rico, grantee of FTZ 61, requesting to extend special-purpose subzone status at Subzone 61H, the pharmaceutical manufacturing plant of Baxter Healthcare Corporation of Puerto Rico (Baxter), located in Guayama, Puerto Rico. It was formally filed on February 7, 2002.

Board Order 875 (62 FR 10521, 3/7/97) authorized Subzone 61H for a period of 5 years (to February 25, 2002), subject to extension. PromoExport Puerto Rico is now requesting that the manufacturing authority for Subzone 61H be extended on a permanent basis. The approved scope of authority includes the following specific items: trifluoroethanol, chlorodifluoromethane, and a plastic valve assembly (to administer anesthetics). It also includes materials in the following general categories: gums, starches, waxes, vegetable extracts, mineral oils, sugars, empty capsules, protein concentrates, prepared animal feed, mineral products, inorganic acids, chlorides, chlorates, sulfites, sulfates, phosphates, cyanides, silicates, radioactive chemicals, rare-earth metal compounds, hydroxides, hydrazine and hydroxylamine, chlorides, phosphates, carbonates, hydrocarbons, alcohols, phenols, ethers, epoxides, acetals, aldehydes, ketone function compounds, mono- and polycarboxylic acids, phosphoric esters, amine-, carboxymide, nitrile- and oxygen-function compounds, heterocyclic compounds, sulfonamides, insecticides, rodenticides, fungicides and herbicides, fertilizers, vitamins, hormones, antibiotics, gelatins, enzymes, pharmaceutical glaze, essential oils, albumins, gelatins, activated carbon, residual lyes, acrylic polymers, color lakes, soaps and detergents, various packaging and printing materials, medicaments, pharmaceutical products, and instruments and appliances used in medical sciences.

FTZ procedures exempt Baxter from Customs duty payments on foreign materials used in production for export. Some 30 percent of production is currently exported. On domestic sales, the company can choose the duty rates that apply to the finished products (duty-free). The duty rates on foreign-sourced items range from duty-free to 18.6 percent. Currently, zone savings involve choosing the finished product duty rate on SUPRANE, FORANE and AERRANE anesthetics (duty-free), rather than the rates for the foreign component: trifluoroethanol (HTSUS #2905.59.1000, duty rate—5.5%). The request indicates that the savings from FTZ procedures will continue to help improve the facility's international competitiveness. In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW, Washington, DC 20005; or

2. Submissions Via the U.S. Postal Service: Foreign-Trade-Zones Board, U.S. Department of Commerce, FCB—Suite 4100W, 1401 Constitution Ave. NW., Washington, DC 20230.

The closing period for their receipt is April 16, 2002. Rebuttal comments in response to material submitted during the foregoing period may be submitted during the subsequent 15-day period (to May 1, 2002).

A copy of the application and accompanying exhibits will be available for public inspection at the Office of the Foreign-Trade Zones Board's Executive Secretary at address Number 1 listed above, and at the U.S. Department of Commerce Export Assistance Center, 525 F.D. Roosevelt Ave., Suite 905, San Juan, PR 00918.

Dated: February 8, 2002.
Dennis Puccinelli,
Executive Secretary.

[FR Doc. 02-3811 Filed 2-14-02; 8:45 am]

BILLING CODE 3510-DS-P